DEPARTMENT OF HEALTH AND HUMAN SERVICES

Centers for Disease Control and Prevention

[60Day-22-22CR; Docket No. CDC-2022-0026]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled Homeless Service Providers Knowledge, Attitudes, and Practices Regarding Body Lice, Fleas and Associated Diseases. This proposed study is designed to improve CDC's understanding of homeless service providers knowledge, attitudes, and practices regarding vector-borne diseases that can affect persons experiencing homelessness.

DATES: CDC must receive written comments on or before April 25, 2022.

ADDRESSES: You may submit comments, identified by Docket No. CDC-2022-0026, by either of the following methods:

• Federal eRulemaking Portal: regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; phone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Homeless Service Providers Knowledge, Attitudes, and Practices Regarding Body Lice, Fleas and Associated Diseases—New—National Center for Emerging and Zoonotic Infectious Diseases (NCEZID), Centers for Disease Control and Prevention (CDC).

Background and Brief Description

This proposed information collection aims to improve CDC's understanding of homeless service providers knowledge, attitudes, and practices regarding vector-borne diseases that can affect persons experiencing homelessness (PEH). Insights gained from this information collection will be used to develop guidance for control of vector-borne diseases among PEH and to improve educational outreach regarding these diseases.

Several bacterial vector-borne diseases that are spread by body lice and fleas disproportionately affect PEH. Given the potential severity of louse- and flea-borne diseases, as well as their disproportionate impact on PEH, understanding the knowledge and gaps in knowledge of urban homeless service providers will allow for targeted education and interventions to reduce the risk of louse- and flea-borne disease among this vulnerable population. This investigation aims to gain insight about gaps in understanding, prevention, and intervention to inform tailored educational campaigns and intervention efforts to reduce risk of infestation with body lice and fleas and their associated diseases.

CDC requests OMB approval for an estimated 38 annual burden hours. There is no cost to respondents other than their time.

Estimated Annualized Burden Hours
Type of respondents | Form name | Number of respondents | Number of responses per respondent | Average burden per response (in hours) | Total burden (in hours)
Homeless Service Providers—Shelter Workers and Volunteers | Knowledge, Attitudes, and Practices About Body Lice- and Flea-borne Diseases: Survey for Shelter Workers | 150 | 1 | 10/60 | 25
Homeless Service Providers—Street Outreach Team | Knowledge, Attitudes, and Practices About Body Lice- and Flea-borne Diseases: Survey for Street/Outreach Workers | 50 | 1 | 10/60 | 9
Supervisor—Shelter | Site Assessment Form for Homeless Service Sites | 30 | 1 | 5/60 | 3
Supervisor—Street Outreach Teams | Site Assessment Form for Street/Outreach Workers | 10 | 1 | 5/60 | 1
Total |  |  |  |  | 38

Jeffrey M. Zirger,
Lead, Information Collection Review Office, Office of Scientific Integrity, Office of Science, Centers for Disease Control and Prevention.

[FR Doc. 2022-03710 Filed 2-18-22; 8:45 am]

BILLING CODE 4163-18-P